DEPARTMENT OF HOMELAND SECURITY

Transportation Security Administration

Intent To Request Extension of Agency Information Collection Activity Under OMB Review: Baseline Assessment for Security Enhancement (BASE) Program

AGENCY: Transportation Security Administration, DHS.

ACTION: 60-Day notice.

SUMMARY: The Transportation Security Administration (TSA) invites public comment on one currently approved Information Collection Request (ICR), Office of Management and Budget (OMB) control number 1652-0062 abstracted below that we will submit to OMB for an extension in compliance with the Paperwork Reduction Act (PRA). The ICR assesses the current security practices in the mass transit/passenger rail and highway and motor carrier industries by way of the Baseline Assessment for Security Enhancement (BASE) program, which encompasses site visits and interviews, and is part of the larger domain awareness, prevention, and protection program supporting TSA's and the Department of Homeland Security's (DHS) missions. This voluntary collection allows TSA to conduct transportation security-related assessments during site visits with security and operating officials of certain surface transportation entities.

DATES: Send your comments by June 21, 2019.

ADDRESSES: Comments may be emailed to TSAPRA@tsa.dhs.gov or delivered to the TSA PRA Officer, Information Technology (IT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

OMB Control Number 1652-0062; Baseline Assessment for Security Enhancement (BASE) Program. Under the Aviation and Transportation Security Act (ATSA) and delegated authority from the Secretary of Homeland Security, TSA has broad responsibility and authority for “security in all modes of transportation including security responsibilities over modes of transportation that are exercised by the Department of Transportation.” ¹ TSA is required to “assess the security of each surface transportation mode and evaluate the effectiveness and efficiency of current Federal Government surface transportation security initiatives.” E.O. 13416, sec. 3(a) (Dec. 5, 2006).

¹ See Public Law 107-71, 115 Stat. 597 (Nov. 19, 2001), codified at 49 U.S.C. 114(d). The TSA Administrator's current authorities under ATSA have been delegated to him by the Secretary of Homeland Security. Section 403(2) of the Homeland Security Act (HSA) of 2002, Public Law 107-296, 116 Stat. 2315 (Nov. 25, 2002), transferred all functions of TSA, including those of the Secretary of Transportation and the Under Secretary of Transportation of Security related to TSA, to the Secretary of Homeland Security. Pursuant to DHS Delegation Number 7060.2, the Secretary delegated to the Assistant Secretary (now referred to as the Administrator of TSA), subject to the Secretary's guidance and control, the authority vested in the Secretary with respect to TSA, including that in sec. 403(2) of the HSA.

TSA developed the Baseline Assessment for Security Enhancement (BASE) program in 2007, in an effort to engage with surface transportation entities to establish a “baseline” of security and emergency response operations. This program was initially created for Mass Transit/Passenger Rail (MT/PR) (i.e., transit, including transit bus) and passenger rail. However, based on the success of the program, TSA developed the Highway (HWY) BASE program in 2012, with full implementation in 2013. This incorporated trucking, school bus contractors, school districts, and over-the-road motor coach. This voluntary program has served to collect and evaluate physical and operational preparedness information and critical assets and key point-of-contact lists. The program also reviews emergency procedures and domain awareness training and provides an opportunity to share industry best practices.

While many MT/PR and HWY entities have security and emergency response plans or protocols in place, there is no consistent approach to evaluate the extent to which security programs exist, nor the content of those programs. As a result, there also is no consistent data about these transportation security programs, nor a database that can be used to benchmark the programs. The BASE program is designed to address these issues.

The program provides TSA with current information on adopted security practices within the MT/PR and HWY modes of the surface transportation sector. This information also allows TSA to adapt programs to the changing threat dynamically, while incorporating an understanding of the improvements surface transportation entities make in their security posture. Without this information, the ability of TSA to perform its security mission would be severely hindered. Additionally, the relationships these face-to-face contacts foster are critical to TSA's ability to reach out to the surface transportation entities participating in the BASE program.

In carrying out the voluntary BASE program, TSA's Transportation Security Inspectors—Surface (TSIs—S) conduct BASE reviews during site visits with security and operating officials of MT/PR and HWY systems, throughout the Nation. The TSIs—S receive and document relevant information using a standardized electronic checklist. Advance coordination and planning ensures the efficiency of the assessment process. The TSIs-S review and analyze the stakeholders' security plan, if adopted, and determine if the mitigation measures included in the plan are being effectively implemented, while providing additional resources for further security enhancement. In addition to examining the security plan document, TSIs-S reviews one or more assets of the private and/or public owner/operator.

During BASE site visits of MT/PR and HWY entities, TSIs—S collect information and complete a BASE checklist from the review of each entity's documents, plans, and procedures. They also interview appropriate entity personnel and conduct system observations prompted by questions raised during the document review and interview stages. TSA conducts the interviews to ascertain and clarify information on security measures and to identify security gaps. The interviews also provide TSA with a method to encourage the surface transportation entities participating in the BASE reviews to be diligent in effecting and maintaining security-related improvements.

While TSA has not set a limit on the number of BASE program reviews to conduct, TSA estimates it will conduct approximately 80 MT/PR BASE reviews and approximately 90 HWY BASE reviews on an annual basis. TSA does not intend to conduct more than one BASE review per mass transit or passenger rail system in a single year. TSA estimates that the hour burden per MT/PR entity to engage its security and/or operating officials with inspectors in the interactive BASE program review process is approximately 12 hours. Also, TSA estimates that the hour burden per HWY entity to engage its security and/or operating officials with inspectors in the interactive BASE program review process is approximately 6 hours. Thus, the total annual hour burden for the MT/PR BASE program review is 936 hours annually (80 × 11.7 hours = 936 hours) and for HWY BASE 522 hours annually (90 × 5.8 hours = 522 hours).

Dated: April 17, 2019.
Christina A. Walsh,
TSA Paperwork Reduction Act Officer, Information Technology.

[FR Doc. 2019-08066 Filed 4-19-19; 8:45 am]

BILLING CODE 9110-05-P